ENVIRONMENTAL PROTECTION AGENCY

[FRL-7586-1]

Notice of Request for Initial Proposals (IP) for Projects To Be Funded From the Public Water Supply Supervision Program (CFDA 66.424—Surveys, Studies, Demonstrations and Special Purpose Grants—Section 1442 of the Safe Drinking Water Act)

AGENCY: Environmental Protection Agency (EPA).

ACTION: Notice.

SUMMARY: EPA Region 6 is soliciting Initial Proposals (IP) from tribes, universities, non-profits, and other entities as defined by the Safe Drinking Water Act (SDWA) interested in applying for Federal assistance for Native American water system operation and management training, and technical assistance (circuit rider) projects to develop, expand, or carry out a program for training persons for methods and occupations involving the public health aspects of providing Safe Drinking Water as authorized by the Safe Drinking Water Act section 1442, 42 U.S.C. 300j-1 on Indian Lands in Louisiana, New Mexico, Oklahoma, and Texas. Region 6 EPA estimates an incremental funding process with as much as $750,000 available per year for three-year cooperative agreements. Multiple awards may be made for various purposes (i.e., regulatory compliance support, operator training and certification, source water assessment and protection), based on specific applicant qualifications. Awards may range from $10,000 to $500,000 based on complexity of project. Awards are expected to be incrementally funded at a similar level each year for the duration of the project period, pending availability of monies allocated to Region 6 for Tribal Direct Implementation of the SDWA including funds from the Underground Injection Control Program, Tribal Drinking Water Operator Training and Certification, and Tribal Public Water System Capacity Development. EPA Region 6 estimates that a total amount of EPA funds for the three-year project period to be as much as $2,250,000, with approximately $350,000 of those funds going toward Tribal Source Water Assessment and Protection, $350,000 going toward Tribal Drinking Water Operator Training and Certification, and the remainder going toward compliance assistance and capacity development activities.

DATES: EPA will consider all proposals received on or before 12 p.m. midnight Central Standard Time December 29, 2003. IPs received after the due date will not be considered for funding.

ADDRESSES: IPs should be mailed to: Yulonda Davis (6WQ-AT), U.S. Environmental Protection Agency, Region 6, Water Quality Protection Division, 1445 Ross Avenue, Dallas, Texas 75202-2733. Overnight Delivery may be sent to the same address.

FOR FURTHER INFORMATION CONTACT: Yulonda Davis, Project Officer, by telephone at 214-665-7154 or by e-mail at davis.yulonda@epa.gov or Blake Atkins, Tribal Drinking Water Program Coordinator, by telephone at 214-665-2297 or by e-mail at atkins.blake@epa.gov.

SUPPLEMENTARY INFORMATION:

Purpose of This Request for Initial Proposals

EPA Region 6's Water Quality Protection Division is requesting proposals from tribes, universities, non-profits, and other entities as defined by the SDWA for administration of Public Water Supply Supervision (PWSS) program for Tribal Direct Implementation.

EPA Region 6 Has Identified the Following High Priority Areas for Consideration

The purpose of the Native American water system operation, and management training and technical assistance projects are to provide hands-on technical assistance in the operational and managerial aspects of managing drinking water facilities. Project work occurs mainly in the field, using a “circuit rider” approach for assisting tribes with drinking water compliance issues and technical issues which may impact drinking water quality.

Other project work includes providing/coordinating local classroom training for tribal operators, tribal utility directors, and other tribal environmental staff, and tribal officials, that range in subject matter through such topics as operator certification exam preparation, disinfection procedures, regulatory requirements, optimization and performance based training.

Additional project work includes support for developing and implementing Tribal Source Water Assessment and Protection programs and activities. Support will be provided to tribal water system staff and tribal environmental staff regarding the EPA Region 6 Source Water Assessment and Protection Programs. Where Source Water Assessments have been completed, support will be provided to interested tribes in completing comprehensive Source Water Protection Programs and activities, following the EPA Region 6 Source Water Protection protocol.

Assistance will be provided predominantly in New Mexico, especially for on-site assistance. Assistance will also be provided, when requested, to tribal water systems in Texas, Oklahoma, and Louisiana, but minimal travel is expected to these locations.

An organization whose IP is selected for Federal assistance must complete an EPA Application for Assistance, including the Federal SF-424 form (Application for Federal Assistance, see 40 CFR 30.12 and 31.10). Organizations who have an existing agreement under this program are eligible to compete for new awards.

Statutory Authority, Applicable Regulations, and Funding Level

Funding is authorized under the provisions of the SDWA section 1442, 42 U.S.C. 300j-1.

The regulations governing the award and administration of Public Water Supply Supervision Cooperative Agreements are in 40 CFR part 30 (for institutions of higher learning, hospitals, and other nonprofit organizations), and 40 CFR part 31 (for States, local governments, and interstate agencies).

Applicants requested to submit a full application will be required to comply with Intergovernmental Review requirements (40 CRF part 29) and the Quality Assurance requirements (40 CFR 30.54 and 31.45) if projects involve environmentally related measurements or data generation.

Total funding available for award by Region 6 is dependent on EPA's appropriation for Fiscal Years 2004, 2005, and 2006. There are estimates of as much as $750,000 per year for three-year cooperative agreements. Awards may range from $10,000 to $500,000. There are no cost share requirements for approved projects.

Proposal Format and Contents

IPs should be no more than three pages with a minimum font size of 10 pitch in Wordperfect/Word or equivalent. Failure to follow the format or to include all requested information could result in the IP not being considered for funding. Full application packages should not be submitted at this time. It is recommended that confidential information not be included in this IP. The following format should be used for all IPs:

Name of Project

Priority Area(s) Addressed (i.e., Operator Certification, Technical Assistance, Source Water Assessment:

Point of Contact: (Individual and Agency/Organization Name, Address, Phone Number, Fax Number, E-mail Address)

Is This a Continuation of a Previously Funded Project (if so, please provide the status of the current grant or cooperative agreement):

Proposed Federal Amount:

Proposed Non-Federal Match (optional, not required):

Proposed Total Award Amount:

Description of General Budget Proposed to Support Project: (Provide budget estimates by task, including travel).

Project Description: (Should not exceed two pages of single-spaced text). Describe organization and relevant experience. Explain organization's interest and goals in entering into a cooperative agreement to perform the project work described in this notice, the availability and training of staff, and available resources to implement the project. Include general description of the proposed project and how it will be organized and implemented. Include a description of how the project will provide continuing education unit (CEU) certifications, and how field work plus classroom training will be delivered. (The majority of the project detail—such as training dates—will be established in participation with EPA in the negotiation of a final workplan, but training events and site visit activity should be generally described.)

Proposed Centers for Implementation/Coordination for Regional/Local Technical Assistance: Home base location of technical assistance providers and project coordination/oversight, such that a regional/local presence and 24-hour/7 days per week emergency assistance can be plausibly implemented.

Expected Accomplishments or Product, with Dates, and Interim Milestones: Define each task and deliverable with a schedule for starting and completing. This section should also include a discussion of a communication plan for distributing the project results to interested parties.

Describe How the Project Meets the Evaluation Criteria Specified Below:

EPA IP Evaluation Criteria

EPA Region 6 will award PWSS cooperative agreements on a competitive basis and evaluate IPs based on the following criteria:

(1) Applicant's demonstrated organizational commitment to providing tribal communities with technical assistance and access to resources, with the objective of increasing tribes' capacity, implementing tribes' own solutions to problems, and providing services in a culturally appropriate manner.

(2) Applicant's specific commitment and experience in the delivery of training and technical/managerial assistance to tribal communities consistent with Safe Drinking Water Act regulation, policy, and Region 6 Guidance.

(3) Applicant's ability to provide assistance with drinking water regulatory compliance monitoring (sampling and analysis), water system optimization, source water assessment and protection, and operator training and certification.

(4) Applicant's ability to maintain continuity of currently provided services to tribal communities without interruption and to work closely with EPA in day-to-day project operation.

(5) Applicant's ability to provide regional/local presence and full technical assistance services in all coverage areas (predominantly New Mexico, Oklahoma, Eastern and Southern Texas, and Northeastern Louisiana).

(6) Applicant's organizational and subject matter expertise resources for the coordination and provision of workshop and classroom training events in drinking water operations and management. Additionally, applicant's ability to provide such training for CEUs where appropriate.

(7) Applicant's ability to produce training literature, training modules, and informational brochures, using both in-house and outside resources in the areas of drinking water, utility management, source water assessment and protection, and systems operations and maintenance.

(8) Applicant's working familiarity with SDWA regulations, with a focus on key monitoring, reporting and public notice requirements of the Total Coliform Rule.

(9) Relationship of the proposed work to the priorities identified in this notice, and how well the proposed work furthers the objectives of the SDWA in Indian Country.

(10) Applicant's ability to transfer assistance and technologies (computer programs, global positioning systems, pocket PCs, etc.) to tribes, and ability to assist tribes in integrating drinking water activities, especially source water protection, into other environmental programs.

The IPs will be evaluated by regional staff. Each IP will be evaluated against the criteria listed above.

IP Selection

Final selection of IPs will be made by the evaluation team of the Drinking Water Section and State/Tribal Programs Section, EPA Region 6. Selected organizations will be notified in writing and requested to submit full applications. Applications, including workplans, are subject to EPA review and approval.

It is expected that unsuccessful applicants will be notified in writing.

Eligible Applicants

Eligible applicants for assistance agreements under section 1442 of the SDWA are tribes, universities, non-profits, and other entities as defined by the SDWA. IPs received for projects outside of Region 6 will not be considered.

Application Procedure

Please mail three copies of the IP(s).

Dispute Resolution Process

Procedures located in 40 CFR 30.63 and part 31, subpart F.

Type of Assistance

It is expected that all the awards under this program will be cooperative agreements.

A description of the Agency's substantial involvement in cooperative agreements will be included in the final agreement.

Schedule of Activities

This is the estimated schedule of activities for submission, review of proposals and notification of selections: December 29, 2003—Proposals due to EPA. January 12, 2004—Initial proposals selected for funding will be requested to submit a formal application package. January 27, 2004—Application and workplan must be postmarked to EPA.

Deadline extensions, if any, will be posted on the Region 6 Water Quality Protection Division, Assistance Programs Branch web site and not in the Federal Register at http://www.epa.gov/earth1r6/6wq/at/sttribal.htm. This Web site may also contain additional information about this request.

Dated: November 4, 2003.
Oscar Ramirez,
Acting Director, Water Quality Protection Division, Region 6.

[FR Doc. 03-28422 Filed 11-12-03; 8:45 am]

BILLING CODE 6560-50-P